DEPARTMENT OF ENERGY

Federal Energy Regulatory Commission

18 CFR Part 33

[Docket No. RM98-4-000; Order No. 642]

Revised Filing Requirements Under Part 33 of the Commission's Regulations

Correction

In rule document 00-29676 beginning on page 70984 in the issue of Tuesday, November 28, 2000, make the following corrections:

§33.3 [Corrected]

1. On page 71016, in the third column, §33.3(c)(5) is corrected; “(5)” should read “(5)”.ÿ7E

2. On the same page, in the same column, §33.3 (c)(6) is corrected; “ (6) ” should read “(6)”.

[FR Doc. C0-29676 Filed 12-4-00; 8:45 am]

BILLING CODE 1505-01-D

DEPARTMENT HEALTH AND HUMAN SERVICES

Food and Drug Administration

21 CFR Part 179

[Docket No. 99F-1912]

Irradiation in the Production, Processing, and Handling of Food

Correction

In rule document 00-30453 beginning on page 71056 in the issue of Wednesday, November 29, 2000, make the following correction:

On page 71056, in the third column “ER29NO00.001” should read

[FR Doc. C0-30453 Filed 12-4-00; 8:45 am]

BILLING CODE 1505-01-D

DEPARTMENT OF INTERIOR

Bureau of Land Management

[OR-957-00-1420-BJ: G01-0033]

Filing of Plats of Survey: Oregon/Washington

Correction

In notice document 00-29480 beginning on page 69572 in the issue of Friday, November 17, 2000, make the following corrections:

1. On page 69573, in the first column, under “Washington ”, “T. 27 S., R. 34 E., accepted February 4, 1999 ” should read “T. 27 N., R. 34 E., accepted February 4, 1999 ”.

2. On the same page, in the same column, in the same location “T. 22 S., R. 11 W., accepted October 5, 1999 ” should read “T. 22 N., R. 11 W., accepted October 5, 1999 ”.

3. On the same page, in the same column, in the same location “T. 33 S., R. 17 E., accepted October 20, 2000 ” should read “T. 33 N., R. 17 E., accepted October 20, 2000 ”.

[FR Doc. C0-29480 Filed 12-4-00; 8:45 am]

BILLING CODE 1505-01-D

DEPARTMENT OF LABOR

Office of the Secretary

Submission for OMB Reveiw; comment request

Correction

In notice document 00-29620 appearing on page 69793 in the issue of Monday, November 20, 2000, make the following correction:

In the second column, nine paragraphs from the bottom of the page, “OMB Number: 1200-0153 ” should read “OMB Number: 1220-0153 ”.

[FR Doc. C0-29620 Filed 12-4-00; 8:45 am]

BILLING CODE 1505-01-D

SECURITIES and EXCHANGE COMMISSION

[Release No. 34-43583; File No. SR-NASD-00-62]

Self-Regulatory Organizations; Notice of Filing and Immediate Effectiveness of Proposed Rule Change and Amendment No. 1 Thereto by the National Association of Securities Dealers, Inc., Relating to the Removal of Duplicative Provisions

Correction

In notice document 00-30136 beginning on page 70751 in the issue of Monday, November 27, 2000, make the following correction:

On page 70756, in the second column, in the first complete paragraph, “December 18, 2001 ”, should read “December 18, 2000 ”.

[FR Doc. C0-30136 Filed 12-4-00; 8:45 am]

BILLING CODE 1505-01-D

DEPARTMENT OF THE TREASURY

31 CFR Part 1

Departmental Offices; Privacy Act of 1974; Implementation

Correction

In rule document 00-29673 beginning on page 69865 in the issue of Tuesday, November 21, 2000, make the following correction:

§1.36 [Corrected]

On page 69875, in the first column, in the table under “(v) Bureau of Engraving and Printing:”, “BEP .004” should read “BEP .044”.

[FR Doc. C0-29673 Filed 12-4-00; 8:45 am]

BILLING CODE 1505-01-D